DEPARTMENT OF LABOR

Workforce Investment Act: Job Corps Program; Selection of Sites for Centers

AGENCY: Office of Job Corps, Office of the Secretary, Labor.

SUMMARY: The Department of Labor requests assistance in identifying sites for locating new Job Corps Centers. This notice specifies the requirements and criteria for selection.

DATES: Proposals are requested by September 30, 2006.

ADDRESSES: Proposals shall be addressed to the National Director, Office of Job Corps, U.S. Department of Labor, 200 Constitution Avenue, NW., Room N4463, Washington, DC 20210.

FOR FURTHER INFORMATION CONTACT: Esther R. Johnson, National Director, Office of Job Corps. Telephone: (202) 693-3000 (this is not a toll-free number).

SUPPLEMENTARY INFORMATION: The Department of Labor (DOL) is soliciting proposals for sites to establish new Job Corps centers. The Job Corps program is designed to serve disadvantaged young women and men, 16 through 24, who are in need of additional educational, career technical (vocational), and other support services in order to acquire the skills to begin a career, return to school or enter the Armed Forces. The program is primarily a residential program operating 24 hours per day, 7 days per week with non-resident enrollees limited by legislation to 20 percent of national enrollment. While the 20 percent level should be used as a guideline, the percentage of non-residents can vary from center to center, depending upon local needs.

Job Corps currently offers a comprehensive, integrated Career Development Services System which provides services for students from the time they apply through enrollment, career preparation and career development activities, and post-center career transition services. Career preparation and career development activities occur primarily on-center and include academic, career technical (vocational), information technology and social skills training; personal and career counseling; medical care; meals and housing; and related support services. Career transition services begin towards the end of the training period and continue for up to two years after a student leaves the center and returns home. These services include career search, job placement and transitional support to meet individual students' needs, such as housing, transportation and child care after they leave the Job Corps center.

Job Corps will be implementing a new framework for building a 21st century system of excellence. The components envisioned for a new program delivery model include high-growth, high-demand industry/occupational clusters; aligning program content with 21st century workplace requirements, and involving industry, education and workforce partners as an integral part of the Job Corps system. Training for each industry cluster will involve approximately 150-200 students.

For this solicitation, the Department intends to select localities for new Job Corps centers from the proposals submitted in response to this solicitation. The centers will be stand-alone facilities of sufficient size to serve about 300 students each. These centers will be primarily residential, but may encompass a small nonresidential component. Selection of the sites will be made based on those which best meet the needs of the Job Corps Program. Development of the sites selected is contingent upon additional funding by Congress.

Congress authorized this expansion and appropriated funding to begin the expansion process in the FY 2005 and FY 2006 Department of Labor Appropriations. The accompanying Congressional Report language indicated that the Department should give priority in site selection to the states which do not currently have a Job Corps center, and to sites which can be started as a satellite (residential or non-residential) in conjunction with an existing Job Corps Center that is serving an entire State or region and which can later be converted to a stand-alone facility. This solicitation is for site selection only and not for the operation of these Job Corps centers. A competitive procurement for selection of a center operator at each site will be initiated and completed well after the site selection process has been completed.

The Workforce Investment Act provides authorization for the establishment of Job Corps centers and requires that students be assigned to Job Corps centers closest to their homes. The determination of a locality's need for a Job Corps center will be made by analyzing State-level poverty and unemployment rates for youth using standardized uniform data available from Federal agencies, such as 2000 census data, Bureau of Labor Statistics publications, and information on existing Job Corps centers, slots, enrollment levels, and locations.

In addition to this analysis, the Department will also assess the facilities at proposed sites. The assessment will focus on property acquisition costs, the cost and suitability of existing structures, environmental conditions at the site, suitability of surroundings for a facility of this type, zoning issues, and the need for, and cost of, new construction and renovation. Priority will be given to proposed sites that offer no-cost or low-cost turnkey facilities (those in move-in condition requiring little or no construction rehabilitation work) which can quickly be made ready for use by Job Corps.

Further, the Department will assess each jurisdiction's plan to use State and local resources, both public and private, through contributions/linkages that reduce the Federal cost of operating a Job Corps center. Such contributions/linkages may include, but not be limited to, the following: the provision of work-based learning sites and donations of training equipment or curriculum by the local employer community and local industry; provision of academic tutors and youth mentors; provision of child care services by local jurisdictions, including programs such as Head Start; provision of health services; alcohol and drug counseling; referral of eligible youth to Job Corps, and job placement and other career transition services after students leave Job Corps. Other linkages may include arrangements with public school systems for high school diploma programs; resources/linkages for credentialing of Job Corps instructors; linkages with one-stops and other local workforce development programs and services; community college networks; social service agencies; business and industry; computer-based education; and other training programs to provide such services as classroom training, high-growth career technical training, and advanced learning opportunities. Contributions of this nature will make maximum use of available statewide and community resources in meeting the needs of Job Corps-eligible youth.

Eligible applicants for submitting proposals are units of State and/or local governments.

Since Job Corps is primarily a residential program and provides academic education, career technical (vocational) training, career development and extensive support services, space and facilities suitable for the following types of utilization are required for a Job Corps center.

• Residential—Adequate housing, including bath and lounge facilities, internet access, as well as appropriate administrative space.

• Academic Education—Space for classrooms, computer labs, video-conferencing and library resources.

• Career Technical (Vocational) Training—Classroom and shop space to satisfy the needs of specific career technical training (career technical (vocational)) clusters (e.g., construction, information technology, and healthcare). The configuration of career technical areas is determined by the ultimate occupational mix offered at the center. Industry clusters such as information technology and finance and business will require classroom space and possibly lab space. Some trades, such as construction and automotive may require shop areas in addition to classroom space.

• Food Services—Cafeteria, including food preparation and food storage areas.

• Medical/Dental—Medical examining rooms, nurses' station, infirmary space for male and female students, and dental facilities.

• Recreation—Gymnasium/multi-purpose recreational facility and large level outdoor area.

• Administration—General office and conference space.

• Storage/Support—Warehousing and related storage including operations and maintenance support.

• Parking—Sufficient for a minimum of 70 vehicles.

Other factors that influence the suitability and cost of facilities necessary to operate a Job Corps center include the following:

Configuration of Facility

The preferred configuration of a facility is a campus-type environment permitting a self-contained center with all space requirements located on-site. Low-rise buildings such as those commonly found in public schools and college settings are preferred.

The Office of Job Corps has developed prototype designs for selected facilities where new construction is necessary. Parties interested in obtaining copies of these designs may do so by contacting the Office of Job Corps at the address provided.

Location of Facilities

Facilities should be located in areas where neighbors are supportive and no major pervasive community opposition exists. Past experience indicates that commercial, light industrial and rural locations are most desirable, while residential locations are the least conducive to community acceptance. In addition, access to emergency medical services, fire and law enforcement assistance should be within reasonable distances. If non-residential enrollment is planned, direct and easy access to the center by public transportation is an important consideration. Proposed sites should be within reasonable commuting distance of planned linkages with other programs and services, and transportation to these linkages should be easily available. Proposed sites should also be in full compliance with the Americans with Disabilities Act Guidelines of 1990 (28 CFR part 36, revised July 1, 1994) or require minimal renovation to ensure full access by persons with disabilities.

Locations with major environmental issues, zoning restrictions, flood plain and storm drainage requirements, or uncertainty regarding utility connections that cannot be resolved efficiently and in a timely manner are less than desirable. Likewise, a facility with buildings eligible for protection under the National Historical Preservation Act may receive less than favorable consideration, due to restrictions on and costs for renovation.

Communities are encouraged to hold public hearings in close proximity to the facilities being proposed to assess the level of community support for a Job Corps center. The Office of Job Corps has brochures and other descriptive information about the program. Copies may be obtained at the address provided.

Own/Lease

The Department prefers ownership over leased facilities, particularly if a substantial investment of construction funds is needed to make the site suitable for Job Corps utilization. Exceptions are long-term (e.g., 25 years or longer) leases at a nominal cost (e.g., $1/year).

Size

The following table shows the approximate gross square footage (GSF) required for the various types of buildings needed to operate a residential Job Corps center with 300 students. The substitution of non-resident for resident students will decrease the dormitory space required for a residential center but will not affect other buildings.

Gross Square Feet (GSF) Requirements by Type of Building
Building type | GSF per student | GSF per 300 students
Housing | 175 | 52,500
Education/Vocation | 85 | 25,500
Food Services | 44 | 13,200
Recreation | 82 | 24,600
Medical/Dental | 12 | 3,600
Administration | 26 | 7,800
Storage/Support | 57 | 17,100
Total |  | *144,300
*Note: The GSF space requirements for the individual functions are only approximate but in general, the GSF needed for a new center that accommodates a 300 person population ranges between 145,000 GSF to 150,000 GSF.

Land Requirements

Between 20 and 30 acres of land are needed for a residential center of 300 students.

Availability of Utilities

It is critical that all basic utilities (i.e., sewer, water, electric and gas) are available and in proximity to the site and in accordance with EPA standards.

Safety, Health and Accessibility

Job Corps is required to comply with the requirements of the Occupational Safety and Health Act (OSHA), the Environmental Protection Act (EPA), and the Uniform Federal Accessibility Standards (UFAS), and the Americans with Disabilities Act (ADA) of 1990. The cost involved in complying with these requirements is an important factor in determining the economic feasibility of utilizing a site. For example, a site which contains an excessive amount of asbestos probably would not be cost-effective due to associated removal costs. Further, sites with any environmental hazard that cannot be corrected economically will be at a disadvantage, as will sites requiring substantial rehabilitation to comply with accessibility requirements for persons with disabilities.

Cost

The availability of low-cost facilities is a major consideration in light of resource limitations. In evaluating facility costs, the major items that must be considered are:

• Site acquisition or lease costs;

• Site/utility work;

• Architectural and engineering services;

• New construction requirements;

• Rehabilitation and modifications of existing buildings, and

• Equipment requirements.

An assessment of these initial capital costs and consideration of future repair, maintenance and replacement costs will be used in evaluating the economic feasibility of a particular facility. Preference will be given to existing turnkey facilities that meet Job Corps' standards for a training facility. While not preferable, consideration will be given to the use of raw land which is suitable for a Job Corps center and on which facilities can be constructed economically.

Proposal Submission

In preparing proposals, eligible applicants should identify sites which meet the evaluation criteria and guidelines specified above. Proposals should address each area with as much detail as practicable to enable the Department to determine the suitability of locating a Job Corps center at the proposed site. In this regard, proposals must contain, at a minimum, the specific information and supporting documentation as described below.

Facilities

Submissions must provide a full description of existing buildings, including a building site layout, square footage, age, and general condition of each structure. Included in the description must be a discussion of the facility's current or previous use, the number of years unoccupied, if applicable, and the condition of sub-systems such as heating, ventilation and air conditioning systems, plumbing, and electrical. Documentation in the nature of photographs of the property and/or facilities must be submitted as well. In addition, a videotaped presentation of the site may be provided. The proposal must identify the extent to which hazardous materials such as asbestos, PCB, and underground storage tanks are present at the site or, if appropriate, confirm that contaminants do not exist. The results of any environmental assessment for the proposed site, if one has been done, must be provided.

The proposal must also address the availability and proximity of utilities to the proposed site, including electrical, water, gas, and sanitary sewer and runoff connections. It must describe whether the water and sewer utilities for existing buildings are connected to the municipal system or operated separately. A statement on current zoning classification and any zoning restrictions for the proposed site must also be included. Use of the site as a Job Corps center should be compatible with surrounding local land use and also with local zoning ordinances. Confirmation must be provided as to whether or not any buildings at the site are on a Federal or State Historical Preservation Register.

The proposal must also describe the available acreage at the site, and the nature of the surrounding environment including whether it is commercial, industrial, light industrial, rural, or residential. In some instances, proposed sites may be part of a substantially larger acreage which has or contemplates having other uses. This type of joint usage may or may not be compatible with providing a quality training environment for young women and men.

Finally, the proposal must address the cost of acquiring the site, which may involve transferring the site to the government at no cost, entering into a low-cost, long-term lease agreement, or arranging for a negotiated purchase price based on a fair market appraisal. Estimated acquisition costs along with the basis for the estimate must be included in the proposal. Any building documents, such as blueprints, should be available for review when a site inspection is conducted by the Department.

Contributions/Linkages

An important aspect of any proposal will be its description of how State and local resources will be used to contribute to enhanced services to Job Corps youth and/or to reduce Federal operating costs or otherwise benefit the program. It is therefore essential that precise and comprehensive information about the linkages be provided to ensure that the proposed site receives every opportunity for a thorough and fair evaluation. The proposal should contain the following information for each linkage:

• A comprehensive description of the service to be provided, including projected listing of resources that will be involved such as number of instructors/staff, types of equipment and materials, or other specific service or contribution.

• The projected number of students to be served and over what period of time, as well as the specific benefit to Job Corps students while in Job Corps and/or after leaving the program.

• Whether the service will be provided at no cost to Job Corps or will be available on a shared cost basis with Job Corps.

• Whether the linkage will be provided on-site or off-site.

• Distance to linkage/service, if off-site, and any arrangements for transportation to off-site services, including any cost to Job Corps.

• The estimated annual value of the contribution and the basis on which the estimate was determined (e.g., two full-time staff devoted to Job Corps at an annual salary of $35,000 each for a total annual value of $70,000; one hour of a professional's time per week for 52 weeks at an hourly rate of $20.00 for an annual value of $1,040; 15 computers at a cost of $1,000 each for an annual value of $22,500).

• Any limitations associated with the linkage, such as eligibility restrictions (e.g., age, in-state versus out of state residents, etc.), limited hours of service, and availability over time (e.g., year round versus selected months).

• Long-term prospects for continuation of the commitment (e.g., one time only, one year, ongoing). If dependent on outside funding sources or levels which vary significantly, what is the likelihood that the linkage will be funded?

• Documentation that addresses timeframes and steps involved in firming up the linkage, if appropriate, including obtaining State or local legislation, State or local workforce investment board approval, fitting into other planning cycles, or securing other agreements or arrangements which may be necessary to ensure provision of the service.

• A letter of commitment confirming each aspect of the linkage, including the level of resources and annual value of these resources, from the head of the agency or other entity responsible for delivering the contribution.

• Name of the agency/organizations(s), address, telephone number and contact person.

In providing information on linkages, applicants should keep in mind that Job Corps is an open-entry, open-exit, individualized, self-paced career development services system that operates on a year-round basis. This type of learning environment may have implications for the types of linkages being offered.

• In preparing the linkage/contribution part of their proposals, eligible applicants should provide full information on each linkage/contribution. All items listed above should be addressed for each linkage/contribution, providing as much information as needed to ensure that each proposed linkage receives a fair assessment.

Community Support

Information should include letters of community support from elected officials, government agencies, local workforce investment boards, community and business leaders and neighborhood associations; and local academic and training providers. The letter should also describe the availability of and access to cultural/recreation activities in the community, and unique features in the surrounding area which would enhance the location of a Job Corps center at that site. Proposals should also include any other information the applicant believes pertinent to the proposed site for consideration by the Department. It is important that, before proposing the use of any particular location, appropriate clearances are obtained from local and State political leadership.

Other Information

The site selection process for new sites for Job Corps centers normally takes 9 months to complete. This allows sufficient time for eligible applicants to prepare and submit proposals, and for the Department to conduct a preliminary site assessment of all proposed facilities, as well as a comprehensive site utilization study for those sites determined to have high potential for the establishment of a Job Corps center, based on the preliminary assessment results.

The Department hereby requests eligible proposers to submit an original and three copies of their proposals to be received no later than September 30, 2006 using the guidance provided above.

Signed in Washington, DC, the 28th day of June 2006.
Esther R. Johnson,
National Director.

FR Doc. E6-10630 Filed 7-6-06; 8:45 am]

BILLING CODE 4510-23-P